DEPARTMENT OF COMMERCE

International Trade Administration

[A-580-921]

Certain Monomers and Oligomers From the Republic of Korea: Postponement of Preliminary Determination in the Less-Than-Fair-Value Investigation

AGENCY: Enforcement and Compliance, International Trade Administration, Department of Commerce.

DATES: Applicable August 19, 2025.

FOR FURTHER INFORMATION CONTACT: Sun Cho, AD/CVD Operations, Office V, Enforcement and Compliance, International Trade Administration, U.S. Department of Commerce, 1401 Constitution Avenue NW, Washington, DC 20230; telephone: (202) 482-6458.

SUPPLEMENTARY INFORMATION:

Background

On April 16, 2025, the U.S. Department of Commerce (Commerce) initiated less-than-fair-value (LTFV) investigations of imports of certain monomers and oligomers (monomers and oligomers) from the Republic of Korea (Korea) and Taiwan.¹ Currently, the preliminary determination is due no later than September 3, 2025.

¹ See Certain Monomers and Oligomers from the Republic of Korea and Taiwan: Initiation of Less-Than-Fair-Value Investigations, 90 FR 17044 (April 23, 2025) (Initiation Notice).

Postponement of Preliminary Determination

Section 733(b)(l)(A) of the Tariff Act of 1930, as amended (the Act), requires Commerce to issue the preliminary determination in an LTFV investigation within 140 days after the date on which Commerce initiated the investigation. However, section 733(c)(1)(A)(b)(1) of the Act permits Commerce to postpone the preliminary determination until no later than 190 days after the date on which Commerce initiated the investigation if: (A) the petitioner ² makes a timely request for a postponement; or (B) Commerce concludes that the parties concerned are cooperating, that the investigation is extraordinarily complicated, and that additional time is necessary to make a preliminary determination. Under 19 CFR 351.205(e), the petitioner must submit a request for postponement 25 days or more before the scheduled date of the preliminary determination and must state the reasons for the request. Commerce will grant the request unless it finds compelling reasons to deny the request.

² The petitioner is Arkema, Inc.

On August 11, 2025,³ the petitioner submitted a timely request that Commerce postpone the preliminary determination in the LTFV investigation of monomers and oligomers from Korea.⁴ The petitioner stated that postponement of the preliminary determination is necessary given the complexity of this investigation and because postponement will allow Commerce to analyze the responses to supplemental questionnaires and give the petitioner adequate time to analyze and comment on the responses prior to the issuance of the preliminary determination.⁵

³ Commerce's practice dictates that where a deadline falls on a weekend or a Federal Holiday, the appropriate deadline is the next business day. See Notice of Clarification: Application of “Next Business Day” Rule for Administrative Determination Deadlines Pursuant to the Tariff Act of 1930, As Amended, 70 FR 24533 (May 10, 2005). As such, the deadline to timely request postponement was Monday, August 11, 2025.

⁴ See Petitioner's Letter, “Request to Extend Preliminary Determination,” dated August 11, 2025.

⁵ Id. at 1.

For the reasons stated above, and because there are no compelling reasons to deny the request, Commerce, in accordance with section 733(c)(1)(A) of the Act, is postponing the deadline for the preliminary determination by 50 days (i.e., to 190 days after the date on which this investigation was initiated). As a result, Commerce will issue its preliminary determination in the above-referenced investigation no later than October 23, 2025. In accordance with section 735(a)(l) of the Act and 19 CFR 351.210(b)(l), the deadline for the final determination of this investigation will continue to be 75 days after the date of the preliminary determination, unless postponed at a later date.

Notification to Interested Parties

This notice is issued and published pursuant to section 732(c)(2) of the Act and 19 CFR 351.205(f)(1).

Dated: August 14, 2025.
Abdelali Elouaradia,
Deputy Assistant Secretary for Enforcement and Compliance.

[FR Doc. 2025-15782 Filed 8-18-25; 8:45 am]

BILLING CODE 3510-DS-P